FEDERAL COMMUNICATIONS COMMISSION

Notice of Public Information Collection(s) Being Reviewed by the Federal Communications Commission, Comments Requested

July 27, 2001.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before October 2, 2001. If you anticipate that you will be submitting comments, but find it difficult to do so within the period of time allowed by this notice, you should advise the contact listed below as soon as possible.

ADDRESSES: Direct all comments to Les Smith, Federal Communications Commissions, 445 12th Street, S.W., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control No.: 3060-0853.

Title: Receipt of Service Confirmation Form, and Adjustment of Funding Commitment, and Certification by Administrative Authority to Billed Entity of Compliance with Children's Internet Protection Act—Universal Service for Schools and Libraries.

Form No.: FCC Form 486, FCC Form 500, and FCC Form 479.

Type of Review: Extension.

Respondents: Business or Other for Profit; Not-for-Profit Institutions.

Number of Respondents: 40,000.

Estimated Time Per Response: 15.37 hours per response (avg).

Total Annual Burden: 615,000 hours.

Estimated Annual Reporting and Recordkeeping Cost Burden: $0.

Frequency of Response: On occasion; Third Party Disclosure; Recordkeeping.

Needs and Uses: Section 1721 and related sections of the Children's Internet Protection Act provide that in order to be eligible under section 254 of the Communications Act of 1934, as amended (the Act), to receive discounted Internet access, internet services, and internal connection services, schools and libraries that have computers with Internet access must have in place certain Internet safety policies. The Commission adopted rules to implement CIPA. FCC Form 486 has been modified to incorporate the certifications required by the statute. All members of the consortium must submit signed certifications to the billed entity of each consortium on a new form, FCC Form 479, certification to Consortium Leader of Compliance with the Children's Internet Protection Act. The Billed entity is required to retain copies of the completed and signed FCC Form 479. FCC Form 500 is used to inform the fund administrator that the eligible entity participating in the universal service support mechanism wishes to reduce its funding commitment amount or has modified the beginning or ending date for services received during the fund year.

Federal Communications Commission.
Magalie Roman Salas,
Secretary.

[FR Doc. 01-19501 Filed 8-2-01; 8:45 am]

BILLING CODE 6712-01-P